ENVIRONMENTAL PROTECTION AGENCY

[FRL-7516-3]

Proposed CERCLA Administrative Settlement—Rocky Flats Industrial Park Site, Jefferson County, CO

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed administrative settlement under section 122(g) of CERCLA, 42 U.S.C. 9622(g), concerning the Rocky Flats Industrial Park site located in the 17,000 block of Colorado Highway 72, approximately two miles east of the intersection of Colorado Highways 93 and 72, in section 23, T2N, in Jefferson County, Colorado. This settlement, embodied in a CERCLA section 122(g) Administrative Order on Consent—De Minimis Settlement (“AOC”), is designed to resolve Hatch's Auto Body and Paint, Inc.'s liability at the Site for past work, past response costs and specified future work and response costs through covenants under sections 106 and 107 of CERCLA, 42 U.S.C. 9606 and 9607. The proposed AOC requires Hatch's Auto Body and Paint, Inc. to pay a total of $3,528.20.

Opportunity for Comment: For thirty (30) days following the date of publication of this notice, the Agency will consider all comments received and may modify or withdraw its consent to the settlement if comments received disclose facts or considerations which indicate that the settlement is inappropriate, improper, or inadequate. The Agency's response to any comments received will be available for public inspection at the EPA Superfund Record Center, 999 18th Street, 5th Floor, in Denver, Colorado.

DATES: Comments must be submitted on or before July 21, 2003.

ADDRESSES: The proposed settlement and additional background information relating to the settlement are available for public inspection at the EPA Superfund Record Center, 999 18th Street, 5th Floor, in Denver, Colorado. Comments and requests for a copy of the proposed settlement should be addressed to Carol Pokorny (8ENF-T), Technical Enforcement Program, U.S. Environmental Protection Agency, 999 18th Street, Suite 300, Denver, Colorado 80202-2466, and should reference the Rocky Flats Industrial Park Site, Jefferson County, Colorado and the EPA docket number CERCLA-8-2003-0005.

FOR FURTHER INFORMATION CONTACT: Carol Pokorny, Enforcement Specialist (8ENF-T), Technical Enforcement Program, U.S. Environmental Protection Agency, 999 18th Street, Suite 300, Denver, Colorado 80202-2466, (303) 312-6970.

Dated: June 11, 2003.
Eddie A. Sierra,
Assistant Regional Administrator, Office of Enforcement, Compliance and Environmental Justice.

[FR Doc. 03-15667 Filed 6-19-03; 8:45 am]

BILLING CODE 6560-50-P